FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping and Disclosure Requirements Associated with Regulation H (Loans Secured by Real Estate Located in Flood Hazard Areas) (FR H-2; OMB No. 7100-0280).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR H-2.

Final Approval Under OMB Delegated Authority of the Extension for Three Years, Without Revision, of the Following Information Collection

Collection title: Recordkeeping and Disclosure Requirements Associated with Regulation H (Loans Secured by Real Estate Located in Flood Hazard Areas).

Collection identifier: FR H-2.

OMB control number: 7100-0280.

General description of collection: The federal flood insurance statutes and Regulation H—Membership of State Banking Institutions in the Federal Reserve System (12 CFR part 208) provide that a lender shall not make, increase, extend, or renew a loan secured by a building or mobile home located in a special flood hazard area unless the secured property is covered by flood insurance for the term of the loan. With respect to the recordkeeping and disclosure provisions, Regulation H generally requires state member banks to retain certain flood hazard documentation and to notify borrowers and servicers regarding properties in flood hazard areas and requirements related to flood insurance. State member banks also must notify the Federal Emergency Management Agency of the identity of, and any change in, the servicer of a loan secured by improved property in a special flood hazard area. The information collection requirements under the flood hazard provisions of Regulation H are triggered by specific events in the lending process.

Frequency: Event-generated.

Respondents: State member banks or servicers acting on their behalf.

Total estimated number of respondents: 706.

Total estimated annual burden hours: 33,983.

Current actions: On April 2, 2025, the Board published a notice in the Federal Register (90 FR 14443) requesting public comment for 60 days on the extension, without revision, of the FR H-2. The comment period for this notice expired on June 2, 2025. The Board did not receive any comments.

Board of Governors of the Federal Reserve System, October 9, 2025.
Erin M. Cayce,
Assistant Secretary of the Board.

[FR Doc. 2025-19934 Filed 11-14-25; 8:45 am]

BILLING CODE 6210-01-P